DEPARTMENT OF ENERGY

Federal Energy Regulatory Commission

[Docket No. IC04-519-001, FERC-519]

Commission Information Collection Activities, Proposed Collection; Comment Request; Submitted for OMB Review

October 28, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of August 20, 2004 (69 FR 51658-51649) and has made this indication in its submission to OMB.

DATES: Comments on the collection of information are due by November 29, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-519-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-519 “Application for Sale, Lease or Disposition, Merger or Consolidation of Facilities or for Purchase or Acquisitions of Securities.”

2. Sponsor: Federal Energy Regulatory Commission.

3. Control No.: 1902-0082.

The Commission is now requesting that OMB review and approve with a three-year extension of the expiration date, with no changes to the existing collection. The information filed with the Commission is mandatory.

4. Necessity of the Collection of Information: Submission of the information is necessary to enable the Commission to carry out its responsibilities in implementing the statutory provisions section 203 of the Federal Power Act (FPA), 16 U.S.C. 824b. Section 203 authorizes the Commission to grant approval of transactions in which a public utility disposes of jurisdictional facilities, merges such facilities with the facilities owned by another person or acquires the securities of another public utility. Under this statute, the Commission must find that the proposed transaction will be consistent with the public interest. Section 318 of the FPA exempts certain persons from the requirements of section 203 that would otherwise concurrently apply under the Public Utility Holding Company Act of 1935.

Under section 203 of the FPA, FERC must review proposed mergers, acquisitions and dispositions of jurisdictional facilities by public utilities, if the value of the facilities exceeds $50,000, and must approve these transactions if they are consistent with the public interest. Today, one of FERC's overarching goals is to promote competition in wholesale power markets, having determined that effective competition, as opposed to traditional forms of price regulation, can best protect the interests of ratepayers. Market power, however, can be exercised to the detriment of effective competition and customers. Therefore, FERC regulates transmission service, mergers and wholesale rates so as to prevent the exercise of market power in bulk power markets. The Commission implements these filing requirements in the Code of Federal Regulations (CFR) under 18 CFR part 33.

5. Respondent Description: The respondent universe currently comprises 134 companies (on average per year) subject to the Commission's jurisdiction.

6. Estimated Burden: 52,930 total hours, 134 respondents (average per year), 1 response per respondent, and 395 hours per response (average).

7. Estimated Cost Burden to Respondents: $6,141,456. (The Commission anticipates over the next three years that it will receive 132 “203 applications for non-merger transactions” at an average of $37,200 and 2 merger applications not requiring complex analysis at an average of $615,528 per application.)

Statutory Authority: Section 203 of the Federal Power Act, (18 U.S.C. 824b).

Magalie R. Salas,
Secretary.

[FR Doc. 04-24594 Filed 11-3-04; 8:45 am]

BILLING CODE 6717-01-P